DEPARTMENT OF ENERGY

Federal Energy Regulatory Commission

[Project No. 2333-094]

Rumford Falls Hydro LLC; Notice of Waiver Period for Water Quality Certification Application

On August 22, 2023, Rumford Falls Hydro LLC submitted to the Federal Energy Regulatory Commission (Commission) a copy of its application for a Clean Water Act Section 401(a)(1) water quality certification filed with the Maine Department of Environmental Protection (Maine DEP), in conjunction with the above captioned project. Pursuant to Section 401 of the Clean Water Act ¹ and section 5.23(b) of the Commission's regulations,² a state certifying agency is deemed to have waived its certifying authority if it fails or refuses to act on a certification request within a reasonable period of time, which is one year after the date the certification request was received. Accordingly, we hereby notify Maine DEP of the following:

¹ 33 U.S.C. 1341(a)(1).

² 18 CFR 5.23(b) (2022).

Date Maine DEP received the certification request: August 22, 2023.

If Maine DEP fails or refuses to act on the water quality certification request on or before August 22, 2024, then the agency certifying authority is deemed waived pursuant to section 401(a)(1) of the Clean Water Act, 33 U.S.C. 1341(a)(1).

Dated: August 23, 2023.
Kimberly D. Bose,
Secretary.

[FR Doc. 2023-18637 Filed 8-29-23; 8:45 am]

BILLING CODE 6717-01-P